DEPARTMENT OF HOMELAND SECURITY

Coast Guard

33 CFR Part 143

46 CFR Parts 110 and 111

[Docket No. USCG-2012-0850]

RIN 1625-AC00

Electrical Equipment in Hazardous Locations; Extension of Comment Period

AGENCY: Coast Guard, DHS.

ACTION: Proposed rule; extension of comment period.

SUMMARY: The Coast Guard is extending the comment period for the notice of proposed rulemaking (NPRM) entitled “Electrical Equipment in Hazardous Locations,” published on June 24, 2013, until November 30, 2013. We are extending the comment period at the request of industry to ensure stakeholders have adequate time to submit complete responses.

DATES: The comment period for the proposed rule published June 24, 2013 (78 FR 37760) is extended. Comments and related material must be submitted and received on or before November 30, 2013.

ADDRESSES: Comments and related material must either be submitted to our online docket via http://www.regulations.gov or reach the Docket Management Facility by the date given above. You may submit comments identified by docket number USCG-2012-0850 using any one of the following methods:

(1) Online: http://www.regulations.gov.

(2) Fax: 202-493-2251.

(3) Mail: Docket Management Facility (M-30), U.S. Department of Transportation, West Building Ground Floor, Room W12-140, 1200 New Jersey Avenue SE., Washington, DC 20590-0001.

(4) Hand delivery: Same as mail address above, between 9 a.m. and 5 p.m., Monday through Friday, except Federal holidays. The telephone number is 202-366-9329.

To avoid duplication, please use only one of these four methods. See the “Public Participation and Request for Comments” portion of the SUPPLEMENTARY INFORMATION section below for instructions on submitting comments.

FOR FURTHER INFORMATION CONTACT: If you have questions on this proposed rule, call or email Mr. Raymond Martin, Systems Engineering Division (CG-ENG-3), Coast Guard; telephone 202-372-1384, email Raymond.W.Martin@uscg.mil. If you have questions on viewing or submitting material to the docket, call Barbara Hairston, Program Manager, Docket Operations, telephone 202-366-9826.

SUPPLEMENTARY INFORMATION:

I. Public Participation and Request for Comments

We encourage you to participate in this rulemaking by submitting comments and related materials. All comments received will be posted without change to http://www.regulations.gov and will include any personal information you have provided.

A. Submitting Comments

If you submit a comment, please include the docket number for this rulemaking (USCG-2012-0850), indicate the specific section of this document to which each comment applies, and provide a reason for each suggestion or recommendation. You may submit your comments and material online or by fax, mail, or hand delivery, but please use only one of these means. We recommend that you include your name and a mailing address, an email address, or a phone number in the body of your document so that we can contact you if we have questions regarding your submission.

To submit your comment online, go to http://www.regulations.gov and insert “USCG-2012-0850” in the “Search” box. Click on “Submit a Comment” in the “Actions” column. If you submit your comments by mail or hand delivery, submit them in an unbound format, no larger than 8½ by 11 inches, suitable for copying and electronic filing. If you submit comments by mail and would like to know that they reached the Facility, please enclose a stamped, self-addressed postcard or envelope.

We will consider all comments and material received during the comment period and may change this proposed rule based on your comments.

B. Viewing Comments and Documents

To view comments, as well as documents mentioned in this preamble as being available in the docket, go to http://www.regulations.gov, insert “USCG-2012-0850” and click “Search.” Click the “Open Docket Folder” in the “Actions” column. If you do not have access to the Internet, you may view the docket online by visiting the Docket Management Facility in Room W12-140 on the ground floor of the Department of Transportation West Building, 1200 New Jersey Avenue SE., Washington, DC 20590, between 9 a.m. and 5 p.m., Monday through Friday, except Federal holidays. We have an agreement with the Department of Transportation to use the Docket Management Facility.

C. Privacy Act

Anyone can search the electronic form of comments received into any of our dockets by the name of the individual submitting the comment (or signing the comment, if submitted on behalf of an association, business, labor union, etc.). You may review a Privacy Act notice regarding our public dockets in the January 17, 2008, issue of the Federal Register (73 FR 3316).

II. Regulatory History and Information

The Coast Guard published an NPRM entitled “Electrical Equipment in Hazardous Locations” on June 24, 2013 (78 FR 37760) proposing to amend its regulations. This proposed subpart would be applicable to foreign Mobile Offshore Drilling Units (MODUs), floating facilities, and vessels that engage in OCS activities for the first time after the effective date of the regulations. The proposed subpart would also be applicable to newly constructed U.S. MODUs, floating facilities, and vessels, excluding offshore supply vessels (OSVs). The proposed regulations would expand the list of national and international explosion protection standards deemed acceptable, as well as add the internationally accepted independent third-party certification system, the IEC System for Certification to Standards relating to Equipment for use in Explosive Atmospheres, as an accepted method of testing and certifying electrical equipment intended for use in hazardous locations. The proposed regulations would also provide owners and operators of existing U.S. MODUs, floating OCS facilities, and vessels, other than OSVs, that engage in OCS activities and U.S. tank vessels that carry flammable or combustible cargoes the option of choosing between the compliance regime contained in existing regulations or the one contained in the proposed subpart 111.108. All comments on this NPRM were originally due by September 23, 2013.

III. Background and Purpose

On September 6, 2013, we received a letter from the International Association of Drilling Contractors requesting an extension of the comment period until November 30, 2013. It noted additional time was desired to review the proposal and its regulatory analysis. The U.S. Coast Guard is extending the public comment period, as requested, to ensure stakeholders have adequate time to submit complete responses.

IV. Authority

This notice is issued under authority of 5 U.S.C. 552(a).

Dated: September 18, 2013.
F.J. Sturm,
Acting, Director of Commercial Regulations and Standards, U.S. Coast Guard.

[FR Doc. 2013-23280 Filed 9-24-13; 8:45 am]

BILLING CODE 9110-04-P